DEPARTMENT OF COMMERCE

Economic Development Administration

[Docket No.: 0811061422-9003-02]

Solicitation of Applications for the FY 2009 Second Supplemental Appropriations Disaster Relief Opportunity Pursuant to the Consolidated Security, Disaster Assistance, and Continuing Appropriations Act, 2009, Public Law Number 110-329, 122 Stat. 3574 (2008)

AGENCY: Economic Development Administration (EDA), Department of Commerce.

ACTION: Notice and request for applications.

SUMMARY: Pursuant to section 703 of the Public Works and Economic Development Act of 1965, as amended, and the Consolidated Security, Disaster Assistance, and Continuing Appropriations Act, 2009, EDA announces general policies and application procedures for the FY 2009 Second Supplemental Appropriations Disaster Relief Opportunity. Pursuant to this notice, EDA solicits applications for Economic Adjustment Assistance investments (CFDA No. 11.307). This Economic Adjustment Assistance will help devise long-term economic redevelopment strategies and carry out implementation activities and public works projects to address economic development challenges in regions impacted by hurricanes, floods and other natural disasters during 2008 and covered by a major disaster declaration under the Robert T. Stafford Disaster Relief and Emergency Assistance Act. Through the Economic Adjustment Assistance program, selected applicants will utilize EDA's flexible set of program tools to develop and implement on a regional basis long-term economic redevelopment strategies for the recently disaster-impacted regions in the United States. As stated below under “Electronic Access,” the complete federal funding opportunity announcement for this notice and request for applications is available at http://www.grants.gov and at http://www.eda.gov, and provides more detailed information regarding the FY 2009 Second Supplemental Appropriations Disaster Relief Opportunity.

DATES: Applications are accepted on a continuing basis and processed as received. For all applications, EDA anticipates award notification approximately sixty (60) days after receipt of a completed application. All applications may be submitted electronically in accordance with the instructions provided at http://www.grants.gov or mailed to the applicable EDA regional office listed below under “Addresses and Telephone Numbers for EDA's Regional Offices.”

Application Submission Requirements: On October 1, 2008, EDA published a notice in the Federal Register (73 FR 57049) to introduce its new, streamlined Application for Investment Assistance (Form ED-900), which consolidates all EDA-specific requirements into a single application form. Form ED-900 replaces the suite of forms previously required by EDA for federal funding (the Pre-Application for Investment Assistance (Form ED-900P), the Application for Investment Assistance (Form ED-900A), and the program-specific components to Form ED-900A). EDA, however, will continue to require additional government-wide federal grant assistance forms from the Standard Form (SF) 424 family and certain Department of Commerce (CD) forms that were a part of EDA's previous suite of forms. The specific SF forms required with the Form ED-900 depend on whether the applicant seeks construction or non-construction assistance.

Applicants seeking assistance for a project with construction components are required to complete and submit the following:

(i) Form ED-900 (Application for Investment Assistance);

(ii) Form SF-424 (Application for Federal Assistance);

(iii) Form SF-424C (Budget Information—Construction Programs);

(iv) Form SF-424D (Assurances—Construction Programs); and

(v) Form CD-511 (Certification Regarding Lobbying).

Applicants seeking assistance for a project without construction components are required to complete and submit the following forms:

(i) Form ED-900 (Application for Investment Assistance);

(ii) Form SF-424 (Application for Federal Assistance);

(iii) Form SF-424A (Budget Information—Non-Construction Programs);

(vi) Form SF-424B (Assurances—Non-Construction Programs); and

(v) Form CD-511 (Certification Regarding Lobbying).

Applicants for both construction and non-construction assistance may be required to submit to an individual background screening on the form titled Applicant for Funding Assistance (Form CD-346) and to provide certain lobbying information using the form titled Disclosure of Lobbying Activities (Form SF-LLL). The new Form ED-900 provides detailed guidance to help the applicant assess whether Forms CD-346 and SF-LLL are required and how to access them.

Content and Form of the Form ED-900: The applicant is advised to read carefully the instructions contained in this notice and in all forms contained in the appropriate application package. It is the sole responsibility of the applicant to ensure that the appropriate application package is complete and received by EDA.

The new Form ED-900 is divided into lettered sections that correspond to specific EDA program components that address all of EDA's statutory and regulatory requirements. Based on program type, the Form ED-900 details the sections and exhibits that the applicant must complete. Because this solicitation seeks Economic Adjustment Assistance applications only, an applicant must complete certain sections as detailed in the table below.

EDA program | Required form ED-900 sections
Economic Adjustment | Complete Sections A, B, and K and Exhibit C. Also complete Section M and Exhibits A, D, and E if request has construction components, and Section N if request has only design/engineering requirements. Complete Section E if request has no construction components.

Addresses and Telephone Numbers for EDA's Regional Offices: Applicants eligible for assistance under this notice may request paper (hardcopy) application packages by contacting the applicable EDA regional office servicing your geographic area listed below. Alternatively, applicants may obtain the application packages electronically. All components of the applicable application package may be accessed and downloaded at either http://www.grants.gov or http://www.eda.gov/InvestmentsGrants/Application.xml.

Applicants who wish to obtain forms in a screen-fillable format are directed to download a complete application package from http://www.grants.gov/applicants/apply_for_grants.jsp. Applicants should be aware that only the Forms ED-900 and CD-346 are screen-fillable. Required forms from the Standard Form (SF) 424 family are not screen-fillable on EDA's Web site, and the applicant will have to print these forms and complete them manually or with a typewriter.

Economic Development Administration, Atlanta Regional Office, 401 West Peachtree Street, NW., Suite 1820, Atlanta, Georgia 30308, Telephone: (404) 730-3002, Fax: (404) 730-3025, Serves: Alabama, Florida, Georgia, Kentucky, Mississippi, North Carolina, South Carolina and Tennessee.

Economic Development Administration, Austin Regional Office, 504 Lavaca Street, Suite 1100, Austin, Texas 78701, Telephone: (512) 381-8144, Fax: (512) 381-8177, Serves: Arkansas, Louisiana, New Mexico, Oklahoma and Texas.

Economic Development Administration, Chicago Regional Office, 111 North Canal Street, Suite 855, Chicago, Illinois 60606, Telephone: (312) 353-7706, Fax: (312) 353-8575, Serves: Illinois, Indiana, Michigan, Minnesota, Ohio, Wisconsin and Muscatine and Scott counties, Iowa.

Economic Development Administration, Denver Regional Office, 410 17th Street, Suite 250, Denver, Colorado 80202, Telephone: (303) 844-4714, Fax: (303) 844-3968, Serves: Colorado, Iowa (excluding Muscatine and Scott counties), Kansas, Missouri, Montana, Nebraska, North Dakota, South Dakota, Utah and Wyoming.

Economic Development Administration, Philadelphia Regional Office, Curtis Center, 601 Walnut Street, Suite 140 South, Philadelphia, Pennsylvania 19106, Telephone: (215) 597-4603, Fax: (215) 597-1063, Serves: Connecticut, Delaware, District of Columbia, Maine, Maryland, Massachusetts, New Hampshire, New Jersey, New York, Pennsylvania, Puerto Rico, Rhode Island, Vermont, U.S. Virgin Islands, Virginia and West Virginia.

Economic Development Administration, Seattle Regional Office, Jackson Federal Building, Room 1890, 915 Second Avenue, Seattle, Washington 98174, Telephone: (206) 220-7660, Fax: (206) 220-7669, Serves: Alaska, American Samoa, Arizona, California, Guam, Hawaii, Idaho, Marshall Islands, Micronesia, Nevada, Northern Mariana Islands, Oregon, Republic of Palau and Washington.

Application Submission Formats: Applications may be submitted either (i) in paper (hardcopy) format to the applicable regional office address provided above; or (ii) electronically in accordance with the procedures provided on http://www.grants.gov. The content of applications is the same for paper submissions as it is for electronic submissions. EDA will not accept facsimile transmissions of applications.

Paper Submissions: Under this solicitation, an applicant for EDA investment assistance may submit a completed paper application to the applicable EDA regional office listed above. The applicant should contact the appropriate regional office to obtain an application package or download and print copies of the application package appropriate to the type of assistance sought, whether construction or non-construction.

The applicant must submit one original and two copies of the appropriate completed application package via postal mail, shipped overnight, or hand-delivered to the applicable regional office, unless otherwise directed by EDA staff. Department of Commerce mail security measures may delay receipt of United States Postal Service mail for up to two weeks. Therefore, applicants who submit paper submissions are advised to use guaranteed overnight delivery services.

Electronic Submissions: Applicants are encouraged to submit applications electronically in accordance with the instructions provided at http://www.grants.gov. The preferred file format for electronic attachments is portable document format (PDF); however, EDA will accept electronic files in Microsoft Word, WordPerfect, or Microsoft Excel formats.

Applicants should access the following link for assistance in navigating http://www.grants.gov and for a list of useful resources: http://www.grants.gov/applicants/applicant_help.jsp. If you do not find an answer to your question under Frequently Asked Questions, try consulting the Applicant's User Guide. If you still cannot find an answer to your question, contact http://www.grants.gov via e-mail at support@grants.gov or telephone at 1-800-518-4726. The hours of operation for http://www.grants.gov are Monday-Friday, 7 a.m. to 9 p.m. (Eastern Time) (except for federal holidays).

FOR FURTHER INFORMATION CONTACT: For additional information or for a paper copy of the complete federal funding opportunity (FFO) announcement for the FY 2009 Second Supplemental Appropriations Disaster Relief Opportunity, contact the appropriate EDA regional office listed above under “Addresses and Telephone Numbers for EDA's Regional Offices.” EDA's Internet Web site at http://www.eda.gov also contains additional information on EDA and its programs.

SUPPLEMENTARY INFORMATION: Electronic Access: Applicants are highly encouraged to refer to the FY 2009 Second Supplemental Appropriations Disaster Relief Opportunity Federal Funding Opportunity (FFO) announcement for additional detailed information on program information and application requirements. The FFO is available at http://www.grants.gov and at http://www.eda.gov. This notice is for the Second Supplemental Appropriations Disaster Relief Opportunity only. Please also access the separate FFO announcement posted at http://www.grants.gov on October 1, 2008, for information regarding the first Supplemental Appropriations Disaster Relief Opportunity. Please access the separate FFO announcement posted at http://www.grants.gov on October 1, 2008 for information regarding funding priorities, application and selection processes, time frames, and evaluation criteria for EDA's regular Economic Adjustment Assistance and Public Works investments, which are funded under the FY 2009 Consolidated Security, Disaster Assistance, and Continuing Appropriations Act, 2009, Public Law 110-329, 122 Stat. 3574 (2008). Additional information may be found at EDA's Internet Web site at http://www.eda.gov.

Background Information: On September 30, 2008, Congress enacted the Consolidated Security, Disaster Assistance, and Continuing Appropriations Act, 2009, Public Law 110-329, 122 Stat. 3574 (2008) (Second Disaster Appropriation). Under the Second Disaster Appropriation, EDA received $400,000,000 as a supplemental appropriation for disaster assistance. The statute mandates that these funds be used in regions covered by a major disaster declaration under title IV of the Robert T. Stafford Disaster Relief and Emergency Assistance Act (42 U.S.C. 5121 et seq.) (Stafford Act) as a result of “hurricanes, floods and other natural disasters occurring during 2008.” For purposes of this solicitation, EDA interprets “occurring during 2008” to mean disaster declarations starting January 1, 2008 for incident periods occurring through December 31, 2008.

Through the FY 2009 Second Supplemental Appropriations Disaster Relief Opportunity, EDA intends to award investments for expenses related to disaster relief, long-term recovery, and restoration of infrastructure related to the consequences of hurricanes, floods and other natural disasters occurring during 2008 for which the President declared a major disaster under title IV of the Stafford Act. Please see section III.B of the Federal Funding Opportunity (FFO) for a list of natural disaster declarations that are within the scope of this solicitation. EDA solicits applications for Economic Adjustment Assistance investments under the Public Works and Economic Development Act of 1965, as amended (PWEDA) (42 U.S.C. 3121 et seq.). Under the Economic Adjustment Assistance program (CFDA No. 11.307), selected applicants will utilize EDA's flexible set of program tools to develop and implement on a regional basis long-term economic redevelopment strategies for the recently disaster-impacted regions in the United States.

Through this competitive solicitation, EDA seeks to fund investments that generate new employment opportunities for regions suffering economic distress in the form of high unemployment, underemployment, low per capita incomes, and outmigration due to the 2008 natural disasters. The Economic Adjustment Assistance program can provide a wide range of technical, planning and infrastructure assistance. This program is designed to respond adaptively to pressing economic recovery issues and is well suited to help address the challenges faced by the regions affected by the hurricanes, floods and other natural disasters occurring during 2008. Assistance can support the development of a strategy to alleviate economic dislocation caused by the disaster (a strategy grant) or support project implementation (an implementation grant), such as infrastructure improvements.

EDA's economic development activities encourage business growth and increased business establishment, retention and expansion, and help create jobs. Post-disaster recovery activities that do not contribute directly to these goals (such as flood mapping, levee public works or housing) are entirely necessary to the recovery effort and may lead indirectly to economic development. However, those types of activities are funded by other federal agencies and are therefore not within the province of the funding opportunities provided in the FFO. EDA's statutory mandate, as applied to post-disaster assistance, is to help formulate and implement economic recovery strategies to restore, replace and expand economic activity in disaster-impacted regions and prioritize projects that will diversify the economic base and lead to a stronger, more globally competitive and disaster-resilient regional economy. By maintaining its focus on economic development, EDA fulfills its mission to lead the federal economic development agenda by promoting innovation and competitiveness, preparing American regions for growth and success in the worldwide economy.

EDA recognizes that urgent infrastructure rebuilding needs exist throughout the regions affected by recent natural disasters. In addition, tensions often arise in the wake of a disaster between advocates of immediate infrastructure rebuilding and advocates of rebuilding infrastructure pursuant to a long-term redevelopment strategy. In EDA's experience with post-disaster recovery, the most effective long-term infrastructure rebuilding efforts are based on a long-term development or redevelopment strategy, established either before or after the disaster. For this reason, EDA encourages the submission of applications geared toward the development and implementation of long-term, regionally-based, collaborative economic redevelopment strategies. EDA will regard applications for infrastructure that are substantively supported by such a strategy as competitive. Applications that are not demonstrably supported by a long-term plan ordinarily will not be viewed as competitive. EDA will evaluate and select applications according to the information set forth below under “Evaluation Criteria” and “Funding Priorities” and in section V. of the FFO announcement.

In addition to soliciting applications for all eligible types of Economic Adjustment projects, EDA specifically encourages submission of applications for the following types of projects under the Economic Adjustment Assistance program.

State-Based “Mother Grants.” States most severely impacted by the 2008 disasters may submit applications to fund “mother grants” to assist States to recover from the disasters. The major distinction between a “mother grant” award and EDA's traditional award is that the amount distributed at one time to a State may be larger than the usual EDA award, with the intent that funds will be distributed expeditiously to respond to the needs of disaster-affected regions and communities. States may directly expend mother grant funds or may redistribute the funds in the form of sub-grants to other eligible recipients for disaster-related individual projects that are required components of the EDA-approved scope of work for the mother grant project. See section 217 of PWEDA (42 U.S.C. 3154c). Each State mother grant recipient will have three years from the date of execution of its mother grant award to expend or redistribute as sub-grants the funds obligated pursuant to the investment. Funds not expended or redistributed prior to the end of the three-year period will be de-obligated and re-obligated pursuant to the terms of the award. States applying for mother grants are required to demonstrate quantitatively and qualitatively the connection between the amount of their proposed mother grant and the extent of damage suffered and needs established within the State's affected areas, including such factors as the scale of damage suffered, the existence of contiguous affected areas, historical frequency of disaster occurrence and the size of affected population. States also are encouraged to list specific projects, if known, which they believe would be suitable candidates for EDA funding. Each sub-grant redistributed by the State to a region subject to a disaster declaration (see section III.B of the FFO) will be subject to the final approval of EDA in its sole discretion prior to the issuance of the sub-grant. No disbursement will be made under the grant for any sub-grant for which until EDA has not provided its final approval. Each State's mother grant award documents will contain a provision prohibiting the disbursement of any EDA funds to any sub-grant unless EDA has received and approved the budget and proposal for that sub-grant project. In addition, each sub-grant redistributed by the State to a region subject to a disaster declaration (see section III.B of the FFO) will be required to comply with all EDA requirements throughout the life of each sub-grant project as though it were invested directly by EDA. EDA will review amounts budgeted for administration, including amounts proposed for the use of consultants, carefully for reasonableness and conformity with the applicable cost principles. When a State determines that it will expend mother grant funds directly for a project, rather than through redistribution as a sub-grant, similar requirements in terms of final approval, budgeting, and compliance with EDA requirements will apply.

Universities and Research Institution Grants. Universities, other accredited institutions of higher education, and qualified non-profit research institutions may submit applications to fund a full range of methodologically rigorous peer-review quality research proposals and other activities appropriate to a multi-disciplinary approach to developing disaster-resilient regional economies in areas affected by the 2008 natural disasters (see Section III.B. of the FFO). Examples of such activities include the development and construction of business incubators for enterprises with a disaster-resilience orientation, facilities for the conduct of commercialized disaster-resilience research, the development of regional disaster-resilient economic development strategies, and the design and development of disaster-resilient infrastructure architecture. The scope of work of any proposed project must tie directly to the development of a disaster-resilient economy in an area affected by the 2008 natural disasters (see section III.B of the FFO). Institutions applying for these investments are required to demonstrate the connection between the amount of their proposed investment and the extent of damage suffered and needs established within their service region's areas due to the 2008 natural disasters, including such factors as the scale of damage suffered, the existence of contiguous affected areas, historical frequency of disaster occurrence, and the size of the affected population.

Regional Strategy Grants for Disaster Resilience. Eligible applicants may apply to one or more EDA regional office to undertake the strategic development and implementation of disaster-resilient regional economies in areas affected by the 2008 natural disasters (see Section III.B. of the FFO). These projects would integrate existing State-based strategic redevelopment campaigns into an overarching approach involving private sector-specific groups, collaboration between or among State governments within a defined region, and other cross-cutting interests. Such projects would map, evaluate and integrate existing regional assets such as communication, intermodal facility, port, aviation, highway, healthcare, energy, education, ecosystem natural defense and other critical infrastructure systems, all to promote the competitiveness of the region for the next twenty years, increasing its resilience and sustainability in the face of future disasters. EDA will evaluate applications based on the following four criteria, each of which shall be weighted at 12.5% and combined shall comprise 50% of an application's score. The evaluation criteria set forth in section V.B of the FFO shall be weighed at 10% each and shall provide the remaining 50% of an application's score.

(a) Experience in disaster redevelopment work (12.5%);

(b) Prior and existing work with cross-cutting private sector interests (12.5%);

(c) Prior and existing work with governments at the State and local levels (12.5%); and

(d) Presentation of a list of robust benchmarks, milestones and deliverables incorporated into the scope of work (12.5%).

EDA anticipates that applicants for a regional strategy grant would consist of economic development organizations of national or significant regional scope. Applicants may form consortia to undertake the work; however, one entity must assume principal responsibility for undertaking, completing, and reporting on the work, and all consortium members must be EDA eligible applicants. Applicants may define a multi-State region within their scope of work that falls within the service area of more than one EDA regional office. In this event, the applicant shall submit its application to each EDA regional office whose service area includes a State within the applicant's defined region (example: an application whose proposed region includes Iowa and Indiana would be submitted to both of EDA's Denver and Chicago Regional Offices). The evaluation panel for such applications will consist of senior career officials in equal numbers from each of the relevant EDA regional offices, and the Regional Directors from those offices will serve jointly as Selecting Officials. In the event that the Regional Directors cannot agree on a selection, then the Deputy Assistant Secretary for Regional Affairs (or such official who is acting in that position) shall be the Selecting Official, and shall also decide who will serve as the Grants Officer for the project. Successful applicants will be required to complete their scope of work within no more than a two-year timeframe, unless the applicant specifies a longer timeframe in its application and EDA and the recipient agree to the same in the award document. Applicants must place their proposal in the context of other disaster resiliency efforts being funded by the States and Federal Government, to avoid unwarranted duplication of effort.

Funding Availability: Under the Consolidated Security, Disaster Assistance, and Continuing Appropriations Act, 2009, Public Law 110-329, 122 Stat. 3574 (2008) (Second Disaster Appropriation), EDA received $400,000,000 as a supplemental appropriation for disaster assistance. As set out below, EDA will allocate the $400,000,000 appropriation provided in the Second Disaster Appropriation among its six regional offices, located in Atlanta, Austin, Chicago, Denver, Philadelphia and Seattle. The allocation formula consisted of six elements weighted according to their perceived impact on recover efforts and included population, inverse per capita income, unemployment, the number of Federal Emergency Management Agency (FEMA) public assistance-eligible counties, the number of FEMA designated counties, and the number of National Response Center environmental damage incidents resulting from natural occurrences. See also section II.B of the FFO announcement. The funds are provided for the necessary expenses related to the following three activities: (i) Disaster relief; (ii) long-term recovery; and (iii) restoration of infrastructure.

Percentage and Funding Allocations per Regional Office

Atlanta Regional Office—14.38% or $57.5 million

Austin Regional Office—33.58% or $134.3 million

Chicago Regional Office—15.00% or $60.0 million

Denver Regional Office—26.14% or $104.6 million

Philadelphia Regional Office—6.93% or $27.7 million

Seattle Regional Office—3.96% or $15.8 million

At a later date, EDA may adjust this allocation to the regional offices, based on its experience in administering the supplemental appropriation to ensure funds are used to maximum effect, or to adjust to unforeseen changes in recovery efforts.

Statutory Authority: The statutory authority for the Economic Adjustment Assistance program is section 209 of PWEDA (42 U.S.C. 3149). Unless otherwise provided in this notice or in the FFO announcement, applicant eligibility, program objectives and priorities, application procedures, evaluation criteria, selection procedures, and other requirements for all programs are set forth in EDA's regulations (codified at 13 CFR chapter III). EDA's regulations and PWEDA are available at http://www.eda.gov/InvestmentsGrants/Lawsreg.xml. Please note that EDA funds may not be used directly or indirectly to reimburse any attorneys' or consultants' fees incurred in connection with obtaining investment assistance under the FFO. See 13 CFR 302.10.

Catalog of Federal Domestic Assistance (CFDA) Number: 11.307, Economic Adjustment Assistance.

Applicant Eligibility: Pursuant to PWEDA, eligible applicants for and eligible recipients of EDA investment assistance under this announcement include a(n): (i) District Organization; (ii) Indian Tribe or a consortium of Indian Tribes; (iii) State, city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3.

For the FY 2009 Second Supplemental Appropriations Disaster Relief Opportunity, EDA will consider applications submitted by eligible applicants located in or acting on behalf of the disaster-affected regions, including one or more institutions of higher education; one or more of the States, cities or other units of local government; and economic development organizations, including but not limited to regional multi-jurisdictional District Organizations and public or private non-profit organizations working in cooperation with private for-profit organizations, local businesses and industry leaders.

EDA is not authorized to provide grants directly to individuals or to for-profit entities seeking to start or expand a private business. Such requests may be referred to State or local agencies, or to non-profit economic development organizations.

Economic Distress Criteria: Pursuant to the Second Disaster Appropriation, regional eligibility is predicated upon the Presidential declarations of disaster areas and/or disaster declarations issued by the Federal Emergency Management Agency (FEMA), as listed in section III.B of the FFO announcement.

Cost Sharing Requirement: As stated above, the disaster declarations issued by FEMA provide EDA with the requisite determination of eligibility under section 703 of PWEDA (42 U.S.C. 3233). Similar to the cost-sharing required under that Act, EDA expects to fund seventy-five (75) percent of the eligible cost of such assistance. The remaining twenty-five (25) percent must be borne by the recipient or provided to the recipient by a third-party as a contribution for the purposes of, and subject to the terms of, the award. In accordance with statutory authority under section 703 of PWEDA (42 U.S.C. 3233), EDA may increase the investment rate up to a maximum of one hundred (100) percent. EDA will be particularly inclined to fund regional strategy grants (as mentioned under “Background Information” above) at an investment rate of one hundred (100) percent. In determining whether to increase the federal share above seventy-five (75) percent, EDA will consider whether the applicant has exhausted its effective taxing or borrowing capacity, or other indicia of dire need. Therefore, the applicant must fully describe and define the “region” in which the proposed project will be located, and is responsible for demonstrating to EDA, by providing statistics and other appropriate information, the nature and level of economic distress in the region.

While cash contributions are preferred, in-kind contributions, consisting of contributions of space, equipment, or services, or forgiveness or assumptions of debt, may provide the required non-federal share of the total project cost. See section 204(b) of PWEDA (42 U.S.C. 3144). EDA will fairly evaluate all in-kind contributions, which must be eligible project costs and meet applicable federal cost principles and uniform administrative requirements. Funds from other federal financial assistance awards are considered matching share funds only if authorized by statute, which may be determined by EDA's reasonable interpretation of the statute. See 13 CFR 300.3. The applicant must show that the matching share is committed to the project for the project period, will be available as needed and is not conditioned or encumbered in any way that precludes its use consistent with the requirements of EDA investment assistance. See 13 CFR 301.5.

Intergovernmental Review: Proposals or applications for assistance under EDA's programs are subject to the State review requirements imposed by Executive Order 12372, “Intergovernmental Review of Federal Programs.”

Evaluation and Selection Procedures: EDA's six regional offices conduct all application review for EDA's Economic Adjustment Assistance investments. Each application is circulated by a project officer within the applicable EDA regional office for review and comments. When the necessary input and information are obtained, the application is considered by the regional office's investment review committee (IRC), which is comprised of regional office staff. The IRC discusses the application to determine if it meets the program-specific award and application requirements provided in 13 CFR 307.2 and 307.4 for Economic Adjustment Assistance, and evaluates it using the general evaluation criteria set forth in 13 CFR 301.8. These general evaluation criteria also are provided below under “Evaluation Criteria.”

EDA will notify the applicant if EDA accepts a completed application, and will forward it for final review and processing in accordance with EDA and Department of Commerce procedures. The Selecting Official, who is the Regional Director, may consider the evaluations and recommendations provided by the IRC and the degree to which one or more of the funding priorities provided below are included, in making the decision as to which applications for investment assistance will be awarded funding. Depending on the quality of the applications received, the Selecting Official also may select an application outside of the IRC's recommendations or make no selection at all.

To limit the burden on the applicant, EDA requests additional documentation only if EDA determines that the applicant's project merits further consideration. The Form ED-900 provides detailed guidance on documentation, information, and other materials that will be requested if, and only if, EDA selects the project for further consideration. EDA will inform the applicant if its application has been selected for further consideration or if the application has not been selected for funding. Unsuccessful applications will be retained in the EDA regional office in accordance with EDA's record retention schedule.

Evaluation Criteria: EDA will select applications competitively based on the investment policy guidelines and funding priority considerations listed below. EDA will evaluate the extent to which a project embodies the maximum number of investment policy guidelines and funding priorities possible and strongly exemplifies at least one of each. EDA will give additional favorable consideration to applications for: (a) State-based mother grants; (b) university and other research institution grants; and (c) regional strategy grants for disaster resilience, each as described above. All investment applications will be competitively evaluated primarily on their ability to satisfy one (1) or more of the following investment policy guidelines, each of which are of equivalent weight and also are set forth in 13 CFR 301.8.

1. Be market-based and results driven. An EDA investment will capitalize on a region's competitive strengths and will positively move a regional economic indicator measured on EDA's Balanced Scorecard, such as: an increased number of higher-skill, higher-wage jobs; increased tax revenue; or increased private sector investment.

2. Have strong organizational leadership. An EDA investment will have strong leadership, relevant project management experience, and a significant commitment of human resources talent to ensure a project's successful execution.

3. Advance productivity, innovation and entrepreneurship. An EDA investment will embrace the principles of entrepreneurship, enhance regional industry clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and Federal governments.

In addition to using the investment policy guidelines set forth above, EDA also will evaluate all strategy grant applications based on the (i) quality of the proposed scope of work for the development, implementation, revision or replacement of a comprehensive economic development strategy (CEDS); and (ii) qualifications of the applicant to implement the goals and objectives resulting from the CEDS. See 13 CFR 303.3(a)(1) and (2). To ensure that the application fully meets these requirements, applicants should pay particular attention to 13 CFR 303.7(b), which sets forth specific technical requirements for the CEDS.

Funding Priorities: Although the Stafford Act declarations serve as a finding of regional economic distress for purposes of eligibility under this competitive solicitation, EDA will give priority to projects that will render the maximum amount of economic revitalization based on satisfaction of one or more of the following core criteria (investment applications that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior State leadership);

ii. Institutional (e.g., institutions of higher learning);

iii. Non-profit (e.g., chambers of commerce, development organizations); and

iv. Private (e.g., leading regional businesses, significant regional industry associations).

• Generate quantifiable positive economic outcomes.

• Make a persuasive case that the project would not have occurred “but for” EDA's investment assistance (e.g., a project in which EDA's assistance represents a substantial share of the total public infrastructure investment and which are unlikely to attract public investment absent specific and discrete EDA involvement).

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

• Leverage local partnerships and other federal programs (e.g., Economic Development District Organizations, Trade Adjustment Assistance Centers, University Centers, the U.S. Department of Labor's Workforce Innovation in Regional Economic Development (WIRED) initiative) that increase the project's probability of success, as well as its probability of bringing substantial benefits to the distress community in which it is located.

3. Investments that encourage entrepreneurship:

• Cultivate a favorable entrepreneurial environment consistent with regional strategies.

• Enable economic regions to identify innovative opportunities among growth-oriented small and medium-size enterprises.

• Promote community and faith-based entrepreneurship programs aimed at improving economic performance in an economic region.

• Link the economic benefits of the project to the distressed community in which it is located.

4. Support strategies that link regional economies with the global marketplace:

• Enable businesses and local governments to understand that ninety-five (95) percent of our potential customers do not live in the United States.

• Enable businesses, local governments and key institutions (e.g., institutions of higher education) to understand and take advantage of the numerous free trade agreements.

• Enable economic development professionals to develop and implement strategies that reflect the competitive environment of the 21st Century global marketplace.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this solicitation.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), and SF-424D (Assurances—Construction Programs) has been approved under OMB Control Numbers 4040-0004, 0348-0041, 4040-0007, and 4040-0009, respectively. The Form CD-346 (Applicant for Funding Assistance) is approved under OMB control number 0605-0001, and Form SF-LLL (Disclosure of Lobbying Activities) is approved under OMB control number 0348-0046. Notwithstanding any other provision of law, no person is required to respond to, nor shall any person be subject to a penalty for failure to comply with, a collection of information subject to the requirements of the PRA unless that collection of information displays a currently valid OMB control number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq. ) are inapplicable. Therefore, a regulatory flexibility analysis has not been prepared.

Dated: January 5, 2009.
Casey Hoffman,
Chief of Staff, Economic Development Administration.

[FR Doc. E9-184 Filed 1-8-09; 8:45 am]

BILLING CODE 3510-24-P